DEPARTMENT OF EDUCATION

National Advisory Council on Indian Education Meeting

AGENCY: National Advisory Council on Indian Education, ED.

ACTION: Notice of open meeting.

SUMMARY: This notice sets forth the schedule and proposed agenda of a forthcoming meeting of the National Advisory Council on Indian Education. The purposes of this meeting are to discuss the Presidential Executive Order 13096 on American Indian and Alaska Native Education, and to discuss the reauthorization of programs under the Elementary and Secondary Education Act of 1965 (ESEA), of which the Title IX Indian Education Program is included. Notice of this meeting is required under Section 10(a)(2) of the Federal Advisory Committee Act and is intended to notify the public of their opportunity to attend.

Executive Order 13096 was signed by President Clinton on August 6, 1998. The order committed the Federal Government to developing a comprehensive response to the national need for better education for American Indian and Alaska Native people. Particular attention is to be provided in the areas of reading, mathematics and science, improving postsecondary attendance and completion rates, and ensuring that Indian students have access to strong, safe, and drug-free school environments. Specific long-term strategies for meeting these objectives are being developed by a Federal Interagency Task Force.

DATES AND TIMES: Holiday Inn on the Hill, March 13, 2000, 9 a.m.-5 p.m. and March 14, 2000, 9 a.m.-4:30 p.m.

ADDRESSES: 415 New Jersey Avenue NW, Washington, DC. Phone: (202) 638-1616.

FOR FURTHER INFORMATION CONTACT: Dr. David Beaulieu, Director, Office of Indian Education, 400 Maryland Avenue, SW, Washington, D.C. 20202. Telephone: (202) 260-3774; Fax: (202) 260-7779.

SUPPLEMENTARY INFORMATION: The National Advisory Council on Indian Education is a presidentially appointed advisory council on Indian education established under Section 9151 of the Elementary and Secondary Education Act of 1965, as amended (20 U.S.C. 7871). The Council advises the Secretary of Education and the Congress on funding and administration of programs with respect to which the Secretary has jurisdiction and that include Indian children and adults as participants or in which those children and adults benefit. The Council also makes recommendations to the Secretary for filling the position of Director of Indian Education whenever a vacancy occurs. The meeting of the Council is open to the public without advanced registration. Public attendance may be limited to the space available. Members of the public may make statements during the meeting, to the extent time permits, and file written statements with the Council for its consideration. Written statements should be submitted to the address listed above.

A summary of the proceedings and related matters that are informative to the public consistent with the policy of Title 5 U.S.C. 552b will be available to the public within fourteen days of the meeting, and are available for public inspection at the Office of Elementary and Secondary Education, U. S. Department of Education, 400 Maryland Avenue, SW, Washington, DC 20202 from the hours of 8:30 a.m. to 5 p.m.

Michael Cohen,
Assistant Secretary, Office of Elementary and Secondary Education.

The National Advisory Council on Indian Education—March 13-14, 2000

The Holiday Inn on the Hill, 415 New Jersey Ave. NW, Washington, DC, 202-638-1616

Monday, March 13, 2000

9:00 a.m.

Roll Call

Introductions

Review Agenda and Purpose of Meeting

10:00 a.m.

Presidential Executive Order 13096 on American Indian and Alaska Native Education

Update on ESEA Reauthorization

Executive Order Research Agenda

12:00 noon

Lunch Recess

1:15-4:00 pm

Draft NACIE Charter and Work Plan

Annual Report Review

OIE Staff Updates

4:30 p.m.

Summarize Discussion & Set Agenda for Next Day

Tuesday, March 14, 2000

9:00 a.m.

Call to Order

9:15-10:30

Continue Business Meeting

10:30-12:00

Open Meeting on Reauthorization of Indian Education Programs

Executive Order 13906

12:00-1:00

Lunch

1:00-4:00

Open Hearing on Indian Education Concerns from Field

4:00-4:30

Summarize Meeting Accomplishments

4:30 p.m.

Adjourn NACIE Meeting

[FR Doc. 00-4011 Filed 2-25-00; 8:45 am]

BILLING CODE 4000-01-P